ENVIRONMENTAL PROTECTION AGENCY

[ER-FRL-9028-3]

Environmental Impact Statements; Notice of Availability

Agency: Office of Federal Activities, General Information (202) 564-7146 or http://www.epa.gov/nepa.

Weekly receipt of Environmental Impact Statements (EISs)

Filed 07/18/2016 Through 07/22/2016

Pursuant to 40 CFR 1506.9.

Notice

Section 309(a) of the Clean Air Act requires that EPA make public its comments on EISs issued by other Federal agencies. EPA's comment letters on EISs are available at: http://www.epa.gov/compliance/nepa/eisdata.html.

EIS No. 20160172, Final Supplement, USN, AK, Gulf of Alaska Navy Training Activities, Review Period Ends: 08/29/2016, Contact: Amy Burt 360-396-0403

EIS No. 20160173, Final, BLM, AK, Eastern Interior Proposed Resource Management Plan, Review Period Ends: 08/29/2016, Contact: Jeanie Cole 907-474-2340

EIS No. 20160174, Draft Supplement, FHWA, WV, US 340 Improvement Study, Comment Period Ends: 09/30/2016, Contact: Jason Workman 304-347-5928

EIS No. 20160175, Draft, FERC, PA, PennEast Pipeline Project, Comment Period Ends: 09/12/2016, Contact: Medha Kochhar 202-502-8964

EIS No. 20160176, Draft, USACE, NY, Fire Island Inlet to Montauk Point, New York Combined Beach Erosion Control and Hurricane Protection Project, Comment Period Ends: 09/29/2016, Contact: Robert Smith 917-790-8729

Amended Notices

EIS No. 20160118, Draft, BLM, CO, Uncompahgre Draft Resource Management Plan, Comment Period Ends: 11/01/2016, Contact: Gina Jones 970-240-5381; Revision to FR Notice Published 06/03/2016; Extending Comment Period from 09/01/2016 to 11/01/2016

EIS No. 20160152, Draft, USFS, NM, Santa Fe National Forest Geothermal Leasing, Comment Period Ends: 10/28/2016, Contact: Larry Gore 575-289-3264; Revision to FR Notice Published 07/08/2016; Change Comment Period from 08/22/2016 to 10/28/2016

Dated: July 26, 2016.
Dawn Roberts,
Management Analyst, NEPA Compliance Division, Office of Federal Activities.

[FR Doc. 2016-18021 Filed 7-28-16; 8:45 am]

BILLING CODE 6560-50-P